DEPARTMENT OF THE INTERIOR

Proposed Candidate Conservation Agreement With Assurances for the Columbia Spotted Frog at Sam Noble Springs, Owyhee County, ID

AGENCY: Fish and Wildlife Service, Interior.

ACTION: Notice of availability.

SUMMARY: The State of Idaho (Idaho Department of Lands and the Idaho Department of Fish and Game) have applied to the Fish and Wildlife Service (Service) for an enhancement of survival permit pursuant to section 10(a)(1)(A) of the Endangered Species Act of 1973, as amended (Act). The permit application includes a proposed Candidate Conservation Agreement with Assurances for the Columbia spotted frog at Sam Noble Springs, Owyhee County, Idaho (Agreement) between the Service, and the State of Idaho. Also available is a draft environmental assessment evaluating the proposed Agreement and permit.

Under the proposed Agreement, the parties would implement conservation measures for Columbia spotted frogs (Rana luteiventris; CSF) over approximately 680 acres (275 ha) in Owyhee County, Idaho. The intent of the proposed Agreement would be to conserve CSFs by protecting and enhancing habitat and populations, in a manner that is consistent with the State's land use activities and the Agreement. The proposed term of the Agreement and the permit is 22 years. The Service has prepared a draft Environmental Assessment for approval of the Agreement and issuance of the permit.

We request comments from the public on the permit application, proposed Agreement, and the draft Environmental Assessment. All comments we receive, including names and addresses, will become part of the administrative record and may be released to the public.

DATES: Written comments should be received on or before March 3, 2006.

ADDRESSES: Comments should be addressed to Carmen Thomas, Project Biologist, Fish and Wildlife Service, 1387 S. Vinnell Way, Room 368, Boise, Idaho 83709 (telephone: 208/378-5243; facsimile: 208/378-5262).

FOR FURTHER INFORMATION CONTACT: Carmen Thomas at the above address or telephone 208/378-5243.

SUPPLEMENTARY INFORMATION:

Document Availability

You may obtain copies of the documents for review by contacting the individual named above. You also may make an appointment to view the documents at the above address during normal business hours.

Background

Under a Candidate Conservation Agreement with Assurances, participating landowners voluntarily implement conservation activities on their property to benefit species that are proposed for listing under the Act, or other sensitive species. Candidate Conservation Agreements with Assurances encourage private and other non-Federal property owners to implement conservation efforts, and reduce threats to unlisted species by assuring them they will not be subjected to increased property use restrictions, beyond those identified in the agreement, if the species is listed in the future under the Act. Application requirements and issuance criteria for enhancement of survival permits through Candidate Conservation Agreements with Assurances are found in 50 CFR 17.22(d) and 17.32(d).

Populations of the CSF are found from Alaska and British Columbia to Washington east of the Cascades, eastern Oregon, Idaho, the Bighorn Mountains of Wyoming, the Mary's, Reese, and Owyhee River systems of Nevada, the Wasatch Mountains, and the western desert of Utah (Green et al. 1997). Genetic evidence (Green et al. 1997) indicates that CSFs may be a single species with three subspecies, or may be several weakly-differentiated species. The Service currently recognizes four populations based on disjunct distribution: Northern, Great Basin, Wasatch, and West Desert. CSFs are believed to be abundant within the Northern population of the species' range from Alaska to Wyoming (Gomez 1994). The other three disjunct populations (Great Basin, Wasatch, and West Desert) received candidate status in 1993 based on the loss of subpopulations in a number of areas in Nevada (58 FR 27260). At that time, the Great Basin population was given a listing priority of 9; in 2001 the priority was raised to 3 (the highest listing rank possible for a subspecies), based upon the discovery of Chytridiomycosis in the Owyhee subpopulation, declining numbers, and the imminence of threats. The CSF is known to occur in Owyhee and Twin Falls counties, Idaho.

Columbia Spotted Frogs at Sam Noble Springs are part of the Great Basin Population of frogs, which is a candidate for listing under the Act. Threats to this population mainly include impacts to, or loss of, habitat—specifically, the loss of perennial wetlands used for feeding, breeding, hibernating, and migrating. Improperly managed livestock grazing practices and water use in areas where frogs occur may contribute to habitat loss. The State of Idaho has an opportunity at Sam Noble Springs to address effects of livestock grazing on CSF habitat while continuing to meet their management needs. By entering into the proposed Agreement with the Service, the State of Idaho would help ensure long-term protection of a population of a species that is a candidate for listing under the Act, by significantly reducing the risk of impacts to CSF habitat, while reducing any long-term regulatory risk to their ability to generate funds from those lands if CSFs were listed and take prohibitions limited their ability to lease those lands for livestock grazing.

As a result of this conservation opportunity and potential regulatory concern, the State of Idaho developed the proposed Candidate Conservation Agreement with Assurances for the CSF at Sam Noble Springs, Owyhee County, Idaho, in cooperation with the Service, and is applying to the Service for a permit under section 10(a) of the Act, authorizing incidental take of CSFs.

Under the proposed Agreement and permit, the State of Idaho and the Service would implement various conservation measures on the Sam Noble Springs parcel. The conservation measures under the proposed Agreement are intended to reduce all threats to the CSF that are controllable by the State of Idaho within the project area. Conservation measures that would be implemented within the project area include: (1) Altered timing and intensity of livestock grazing; (2) installation of grazing management structures; (3) creation of additional livestock watering ponds; (4) installation and operation of a water collection facility serving a livestock watering trough; (5) maintenance of existing livestock watering ponds; (6) management of vegetation in and adjacent to occupied CSF habitat; and (7) monitoring of CSF populations and habitat condition to determine effectiveness and compliance with the Agreement. If issued, the permit would authorize incidental take of CSFs as a result of specified land management practices related to agriculture, livestock management, and CSF habitat restoration.

We provide this notice pursuant to section 10(c) of the Endangered Species Act and implementing regulations for the National Environmental Policy Act (40 CFR 1506.6), in order to solicit public review and comments on the permit application and a related environmental assessment. Comments received will be considered in the course of our evaluation of the proposed permit under section 10(a) of the Endangered Species Act and National Environmental Policy Act. We will not make our final decision on the application until after completion of the comment period and will fully consider all comments received during the comment period.

Dated: January 26, 2006.
David J. Wesley,
Deputy Regional Director, Fish and Wildlife Service, Portland, Oregon.

[FR Doc. E6-1302 Filed 1-31-06; 8:45 am]

BILLING CODE 4310-55-P